DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 18, 2014. Address written comments to Statutory Import Programs Staff, Room 3720, U.S. Department of Commerce, Washington, DC 20230. Applications may be examined between 8:30 a.m. and 5:00 p.m. at the U.S. Department of Commerce in Room 3720.

Docket Number: 14-012. Applicant: University of California Los Angeles, 570 Westwood Plaza, Building 114, Los Angeles, CA 90095. Instrument: iCorr (Correlative Microscopy). Manufacturer: FEI Company, Czech Republic. Intended Use: The instrument will be used to perform correlative microscopy of biological samples from micro to nanometer scales, using fluorescence light microscopy and cryo electron microscopy, used in conjunction to reveal dynamics and functionalities of the materials. Justification for Duty-Free Entry: There are no instruments of the same general category manufactured in the United States. Application accepted by Commissioner of Customs: October 3, 2014.

Docket Number: 14-026. Applicant: Stanford University, 1291 Welch Rd. CCSR 2100, Pediatrics-Human Gene Therapy, Stanford, CA 94305. Instrument: iMIC Digital Microscope 2.0 system full set (0000-530-25032). Manufacturer: FEI Munich (formerly TILL Photonics), Germany. Intended Use: The instrument will be used to perform high-speed imaging and simultaneous large volume data processing of cultured neurons from rats and mice growing in special made PDMS microfluidic chambers. A fluorescent microscopy system which is able to scan and acquire large amounts of images at high speeds is required, as well as the system being able to maintain stable focus plane over a long time-lapse recording. Justification for Duty-Free Entry: There are no instruments of the same general category manufactured in the United States. Application accepted by Commissioner of Customs: October 3, 2014.

Docket Number: 14-027. Applicant: Howard Hughes Medical Institute, 4000 Jones Bridge Rd., Chevy Chase, MD 20815. Instrument: JEM-1400 Transmission Electron Microscope. Manufacturer: JEOL Ltd., Japan. Intended Use: The instrument will be used to research and discover the genetic pathways of various neurological diseases, using tissue samples from animal models which are examined for changes in their subcellular organelles that are believed to result from the effects of the diseases. Justification for Duty-Free Entry: There are no instruments of the same general category manufactured in the United States. Application accepted by Commissioner of Customs: October 14, 2014.

Docket Number: 14-028. Applicant: University of Colorado Boulder, UCB 428, 1111 Engineering Drive, Boulder, CO 80309. Instrument: Fiberoptic Cable. Manufacturer: Ceramoptec Gmbh, Germany. Intended Use: The instrument will be used to pursue a research path towards constructing an off grid toilet that converts human waste into fertilizer or solid fuel, using solar energy transmitted by fiberoptic cable to a reaction chamber. A fiberoptic cable that is able to withstand high temperatures (300-700 degrees C) without a high transmission loss is required. Justification for Duty-Free Entry: There are no instruments of the same general category that fulfill these requirements manufactured in the United States. Application accepted by Commissioner of Customs: October 14, 2014.

Docket Number: 14-029. Applicant: Howard Hughes Medical Institute, 4000 Jones Bridge Rd., Chevy Chase, MD 20815. Instrument: KonTEM PhazR System. Manufacturer: KonTEM GmbH, Germany. Intended Use: The instrument will be attached to an electron microscope, in place of one of the apertures. It will be inserted into the electron beam path to enhance image contrast for the imaging of proteins such as ion channels. Justification for Duty-Free Entry: There are no instruments of the same general category manufactured in the United States. Application accepted by Commissioner of Customs: October 14, 2014.

Dated: October 23, 2014.
Gregory W. Campbell,
Director of Subsidies Enforcement, Enforcement and Compliance.

[FR Doc. 2014-25748 Filed 10-28-14; 8:45 am]

BILLING CODE 3510-DS-P